ENVIRONMENTAL PROTECTION AGENCY

[ER-FRL-5541-1]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 4, 2003 (68 FR 16511).

Draft EISs

ERP No. D-AFS-J65379-CO Rating EC2, Green Ridge Mountain Pine Beetle Analysis Project, Proposal to Reduce the Spread of Mountain Pine Beetle and Associated Tree Mortality, Medicine Bow-Routt National Forest & Thunder Basin National Grassland, Parks Ranger District, Jackson County, CO.

Summary: EPA expressed environmental concerns with harvest activities and road construction because of potential adverse impacts to aquatic resources and contiguous terrestrial habitat. The final EIS should include additional information regarding the use of adaptive management techniques, mitigation measures for soil compaction, habitat fragmentation and impacts from new roads.

ERP No. D-COE-F36164-IL Rating LO, Programmatic EIS—East St. Louis and Vicinity, Illinois Ecosystem Restoration and Flood Damage Reduction Project, Implementation, Madison and St. Clair Counties, IL.

Summary: EPA has no objections to this multi-objective, multi-agency ecological restoration and flood control project.

ERP No. D-COE-K36136-CA Rating EC2, Lower Cache Creek Flood Damage Reduction Project, Implementation, City of Woodland and Vicinity, Yolo County, CA.

Summary: EPA expressed environmental concerns regarding the project's lack of integration and consistency with the Sacramento/San Joaquin River Basins Comprehensive Study, impacts on sediment loading, air quality, water quality and transportation, as well as direct impacts from future operation and maintenance of existing levees, risks from reasonably foreseeable flooding and the costs of residual flood risk.

ERP No. D-COE-K39077-CA Rating LO, East Cliff Drive Bluff Protection and Parkway Project, Alternatives Evaluation for Coastal Bluff Erosion Protection, City of Santa Cruz, Santa Cruz County, CA.

Summary: EPA has a lack of objections to this project. EPA provided recommendations to ensure full disclosure of potential PM2.5 and ozone air quality effects, other potential mitigation measures for visual impacts and project costs.

ERP No. D-FRC-G03020-LA Rating EC2, Hackberry Liquified Natural Gas (LNG) Terminal and Natural Gas Pipeline Facilities, Construction and Operation, Cameron, Calcasieu, and Beauregard Parishes, LA

Summary: EPA expressed environmental concerns over potential impacts and requested that additional information be provided in the FEIS. Additional information requested included analyses of air quality impacts, availability of alternatives and cumulative impacts.

ERP No. D-FRC-K05228-CA Rating EC2, Pit 3, 4, 5 Hydroelectric Project, (FERC No. 233-081), Application for New License, Pit River, Pit River Basin, Shasta-Trinity National Forest and Lassen National Forest, Shasta County, CA.

Summary: EPA expressed environmental concerns regarding impacts to water quality and cultural resources. EPA also requested additional information on impacts of minimum flow on aquatic resources and measures for avoiding the use of herbicides to control noxious weeds.

ERP No. D-SFW-K91011-CA Rating EC2, Programmatic EIS—San Francisco Estuary Invasive Spartina Project, Spartina Control Program to Preserve and Restore Ecological Integrity of the Estuary's Intertidal Habitats, Alameda, Contra Costa, Marin, Napa, San Francisco and San Mateo, CA.

Summary: EPA expressed environmental concerns and recommended the PFEIS include additional evaluation and disclosure of Clean Water Act Section 404 requirements; mitigation measures for biological resources and visual effects; the program approach for managing dredged material reuse, outside seed sources of Spartina, peer reviews, and funding; cumulative impacts and Endangered Species Act section 7 consultation.

ERP No. D-TVA-E29001-TN Rating EC2, Rarity Pointe Commercial Recreation and Residential Development on Tellico Reservoir Project, Request for TVA's Land and Approval of Water Use Facilities, Tellico Reservoir, Loudon County, TN.

Summary: EPA expressed environmental concerns regarding water quality impacts for the Tellico Reservoir.

Final EISs

ERP No. F-COE-E30040-FL Lee County Beach Erosion Control Project, Shore Protection, Gasparilla and Estero Islands, Lee County, FL.

Summary: EPA has no objections to the proposed project.

ERP NO. F-FRC-D03004-00 Greenbrier Pipeline Project, (Docket Nos. CPO 2-396-000 and PF 01-1-00), Proposal to Construct and Operate a Natural Gas Pipeline and Associated Above Ground Facilities extending from east of Clendenin, Kanawha County, WV, VA and Granville County, NC.

Summary: EPA expressed environmental concerns regarding the proposed project, including wetlands losses. In light of the potential loss of wetlands, EPA also requested additional information regarding the proposed wetlands mitigation plan.

ERP No. F-FRC-L05225-OR North Umpqua Hydroelectric Project (FERC Project 1927), New License Issuance for the existing 185.5-megawatt (MW) Facility, North Umpqua River, Douglas County, OR.

Summary: No formal comment letter was sent to the preparing agency.

ERP No. F-FRC-L05228-ID Bear River Hydroelectric Project, Application for a New License for Three Existing Hydroelectric Projects: Soda (FERC No. 20-019), Grace-Cove (FERC No. 2401-007) and, Oneida (FERC No. 472-017) Bear River Basin, Caribou and Franklin Counties, ID.

Summary: No formal comment letter was sent to the preparing agency.

ERP No. F-SFW-K64021-CA Natomas Basin Habitat Conservation Plan, Issuance of Incidental Take Permit and the Adoption of an Implementing Agreement or Agreements, Natomas Basin, Sacramento and Sutter Counties, CA.

Summary: EPA expressed continuing environmental concerns regarding the mitigation ratio and cumulative effects analysis. EPA recommended the ROD summarize the scientific basis for the 0.5:1 mitigation ratio, include a table demonstrating that the habitat values of habitats lost and conserved are equivalent, include a commitment to and list of all other mitigation requirements, and summarize cumulative impacts. EPA also recommended that the ROD address triggers for new effects analysis or revisions to the Natomas Basin HCP and ITPs, and possible suspension of applicable ITPs.

Dated: June 10, 2003.
Joseph C. Montgomery,
Director, NEPA Compliance Division, Office of Federal Activities.

[FR Doc. 03-15012 Filed 6-12-03; 8:45 am]

BILLING CODE 6560-50-M